DEPARTMENT OF TRANSPORTATION

Federal Aviation Administration

Notice of Request To Release Airport Property

AGENCY: Federal Aviation Administration (FAA) DOT.

ACTION: Notice of Intent to Rule on Request to Release Airport Property at the Halifax County Airport (RZZ), Roanoke Rapids, North Carolina.

SUMMARY: The FAA proposes to rule and invites public comment on the release of land at the Halifax County Airport (RZZ), Roanoke Rapids, NC under the provisions of 49 U.S.C. 47107(h).

DATES: Comments must be received on or before November 25, 2011.

ADDRESSES: Comments on this application may be mailed or delivered to the FAA at the following address: Larry F. Clark, Assistant Manager, Federal Aviation Administration, Atlanta Airports District Office, 1701 Columbia Ave., Campus Building, Suite 2-260, College Park, GA 30337.

In addition, one copy of any comments submitted to the FAA must be mailed or delivered to: Tony N. Brown, Halifax County Manager, 10 North King Street, Halifax, NC 27839.

FOR FURTHER INFORMATION CONTACT: Larry F. Clark, Assistant Manager, Federal Aviation Administration, Atlanta Airports District Office, 1701 Columbia Avenue, Campus Building, Suite 2-260, College Park, GA 30337.

The request to release property may be reviewed, by appointment, in person at this same location.

SUPPLEMENTARY INFORMATION: The FAA invites public comment on the request to release approximately 292 acres of property known as the Halifax County Airport (RZZ) under the provisions of 49 U.S.C. 47107(h)(2). In May, 2009, the Halifax-Northampton Regional Airport Authority opened the new Halifax-Northampton Regional Airport (IXA) as a replacement for the Halifax County Airport (RZZ). On April 20, 2010, the Chairman of the Board of Commissioners of Halifax County and the Mayor of Roanoke Rapids notified the FAA that because of the opening of the new Halifax-Northampton Regional Airport and the subsequent decommissioning of RZZ that they were officially requesting a full release of the affected property from federal obligations. All operations at RZZ have ceased. The FAA has determined that the request to release property at RZZ submitted by the airport sponsors meets the procedural requirements of the FAA. The release of this property does not and will not impact future aviation needs in the region. The FAA may approve the request in whole no sooner than 30 days after publication of this notice.

The Following Is a Brief Overview of the Request

The Airport Sponsors are proposing the release of the entire airport property and associated facilities. The release of land is necessary to comply with FAA Grant Assurances that do not allow federally acquired airport property to be used for non-aviation purposes. The permanent abandonment of the subject property will result in the lands of RZZ being changed from aeronautical to nonaeronautical use and release of the lands from the conditions of the AIP Grant Agreement Grant Assurances. In accordance with 49 U.S.C. 47107(c)(2)(B)(i) and (iii), the Airport Sponsor has reinvested an amount equal to the fair market value of RZZ in the recently-constructed IXA.

Any person may inspect, by appointment, the request in person at the FAA office listed above under FOR FURTHER INFORMATION CONTACT.

In addition, any person may, upon appointment and request, inspect the application, notice and other documents determined by the FAA to be related to the application in person at the Halifax County Manager's Office, 10 North King Street, Halifax, NC.

Issued in College Park, Georgia on October 12, 2011.
Scott L. Seritt,
Manager, FAA Atlanta Airports District Office.

[FR Doc. 2011-27634 Filed 10-25-11; 8:45 am]

BILLING CODE 4910-13-P